NATIONAL AERONAUTICS AND SPACE ADMINISTRATION

[Notice (05-102)]

Government-Owned Inventions, Available for Licensing

AGENCY: National Aeronautics and Space Administration.

ACTION: Notice of availability of inventions for licensing.

SUMMARY: The inventions listed below assigned to the National Aeronautics and Space Administration, have been filed in the United States Patent and Trademark office, and are available for licensing.

DATES: June 8, 2005.

FOR FURTHER INFORMATION CONTACT: Linda B. Blackburn, Patent Counsel, Langley Research Center, Mail Code 141, Hampton, VA 23681-2199; telephone (757) 864-9260; fax (757) 864-9190.

NASA Case No. LAR-16867-1: Sensing/Actuating Materials Made From Carbon Nanotube Polymer Composites And Methods For Making Same;

NASA Case No. LAR-16698-1: Hybrid Elecromechanical Actuator And Actuation System;

NASA Case No. LAR 17712-4: Multilayer Electroactive Polymer Composite Material.

Dated: May 31, 2005.
Keith T. Sefton,
Deputy General Counsel, Administration and Management.

[FR Doc. 05-11305 Filed 6-7-05; 8:45 am]

BILLING CODE 7510-13-P